ENVIRONMENTAL PROTECTION AGENCY

[FRL-7156-8]

Gulf States Steel Superfund Site; Notice of Proposed Settlement

AGENCY: Environmental Protection Agency.

ACTION: Notice; request for public comment.

SUMMARY: Under the Comprehensive Environmental Response, Compensation, and Liability Act, as amended (“CERCLA”), the United States Environmental Protection Agency (“EPA”) proposes to enter into a Prospective Purchaser Agreement (“PPA”) regarding a portion of the Gulf States Steel Superfund Site in Gadsden, Etowah County, Alabama. EPA proposes to enter into the PPA with Alabama Structural Products, Inc. (ASP). The PPA provides for the payment of $100,000 from ASP and obligates ASP to fully cooperate with any response actions EPA may take on the property. Further, the PPA provides ASP with a covenant not to sue from the United States for Existing Contamination on the property. The covenant is conditioned upon ASP's fulfilling its obligations under the PPA. EPA will consider comments on the proposed PPA for thirty (30) days.

EPA may withdraw from or modify the proposed PPA should such comments disclose facts or considerations which indicate the proposed PPA is inappropriate, improper, or inadequate. Copies of the proposed settlement are available from: Ms. Paula V. Batchelor, U.S. Environmental Protection Agency, Region 4, Waste Management Division, 61 Forsyth Street, SW., Atlanta, Georgia 30303, 404/562-8887.

Written comments may be submitted to Ms. Batchelor at the above address within 30 days of the date of publication.

Dated: March 5, 2002.
Franklin E. Hill,
Chief, CERCLA Program Services Branch, Waste Management Division.

[FR Doc. 02-6065 Filed 3-12-02; 8:45 am]

BILLING CODE 6560-50-P